OFFICE OF THE UNITED STATES TRADE REPRESENTATIVE

Membership of the Performance Review Board (PRB)

AGENCY: Office of the United States Trade Representative.

ACTION: Notice

SUMMARY: The following staff members have been appointed to serve on the Performance Review Board:

Performance Review Board (PRB)

Chair: Wendy Cutler

Member: Barbara Weisel

Member: Florizelle Liser

Member: Lewis Karesh

Member: Sharon Bomer-Lauritsen

Executive Secretary: Ronald Nerida

DATES: Effective Date: November 20, 2014

FOR FURTHER INFORMATION CONTACT: Questions regarding this submission should be directed to Susan Buck, Acting Director, USTR Office of Human Resources (202) 395-7630.

Fred Ames,
Assistant U.S. Trade Representative for Administration, Office of the United States Trade Representative.

[FR Doc. 2014-28179 Filed 11-28-14; 8:45 am]

BILLING CODE 3290-F4-P